DEPARTMENT OF LABOR

Mine Safety and Health Administration

[OMB Control No. 1219-0121]

Proposed Extension of Information Collection: Safety Standards for Roof Bolts in Metal and Nonmetal Mines and Underground Coal Mines

AGENCY: Mine Safety and Health Administration, Labor.

ACTION: Request for public comments.

SUMMARY: The Department of Labor (DOL), as part of its continuing effort to reduce paperwork and respondent burden, conducts a pre-clearance consultation program to provide the general public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection entitled Safety Standards for Roof Bolts in Metal and Nonmetal Mines and Underground Coal Mines.

DATES: All comments must be received on or before December 23, 2024.

ADDRESSES: Comments concerning the information collection requirements of this notice may be sent by any of the methods listed below. Please note that late comments received after the deadline will not be considered.

• Federal E-Rulemaking Portal: https://www.regulations.gov. Follow the on-line instructions for submitting comments for docket number MSHA-2024-0026.

• Mail/Hand Delivery: DOL-MSHA, Office of Standards, Regulations, and Variances, 201 12th Street South, 4th Floor West, Arlington, VA 22202-5452. Before visiting MSHA in person, call 202-693-9455 to make an appointment.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act) as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal mines.

B. Information Collection

In order to fulfill the statutory mandates to promote miners' health and safety, MSHA requires the collection of information under the information collection request entitled Safety Standards for Roof Bolts in Metal and Nonmetal Mines and Underground Coal Mines. The information collection is intended to ensure that mine roof, face, and rib are adequately supported and that ground control systems are effective.

Accidents involving falls of mine roof, face, and rib in underground mines or falls of highwall in surface mines, historically, have been among the leading causes of injuries and deaths. Preventing or controlling roof, face, or rib falls is uniquely difficult because of the variety of conditions encountered in mines that can affect the stability of various types of strata. Additionally, the nature of the forces affecting ground stability at any given operation and time are constantly changing. Roof and rock bolts and accessories are integral parts of ground control systems and are used to prevent the fall of roof, face, and rib. Advancements in the technology of roof and rock bolts and accessories have aided in reducing the hazards associated with falls of roof, face, and rib.

1. Providing Manufacturers' Certifications

It is necessary to ensure that roof and rock bolts and accessories are up to safety standards as they are imperative to protecting miners' safety and health. Under 30 CFR 56.3203, 57.3203 and 75.204, the quality of roof and rock bolts and accessories and their installation are addressed.

These provisions incorporate by reference the American Society for Testing and Materials (ASTM) F432-95 entitled “Standard Specification for Roof and Rock Bolts and Accessories.” This ASTM standard, a consensus standard used throughout the United States, contains specifications for the chemical, mechanical, and dimensional requirements for roof and rock bolts and accessories used for ground support systems. These regulations ensure the quality and effectiveness of roof and rock bolts and accessories and, as technology evolves, allow for the use of new materials which are proven to be reliable and effective in controlling the mine roof, face, and rib.

1-1. MNM Mines

Roof and rock bolts and accessories must be certified to the ASTM standard, or otherwise tested in similar circumstances to the ones in which they are being used. Certifications of purchase or tests must be made available upon request.

Under 30 CFR 56.3203(a) and 57.3203(a), mine operators of MNM mines, both surface and underground, must obtain a certification from the manufacturer that roof and rock bolts and accessories are manufactured and tested in accordance with the applicable ASTM specifications, and that the manufacturer's certification is made available to an authorized representative of the Secretary and to the representative of miners.

Under 30 CFR 56.3203(h) and 57.3203(h), if mine operators of MNM mines use other tensioned and non-tensioned fixtures and accessories for ground control that are not addressed by the applicable ASTM standards listed in 30 CFR 56.3203(a) and 57.3203(a), test methods must be established by the mine operator and used to verify their ground control effectiveness.

Under 30 CFR 56.3203(i) and 57.3203(i), the mine operator must certify that the tests developed under 30 CFR 56.3203(h) and 57.3203(h) were conducted and such certifications be made available to an authorized representative of the Secretary.

1-2. Coal Mines

Under 30 CFR 75.204(a), mine operators of underground coal mines must obtain a certification from the manufacturer that roof bolts and accessories are manufactured and tested in accordance with the applicable ASTM specifications, and that the manufacturer's certification is made available to an authorized representative of the Secretary and to the representative of miners.

2. Bolt Tension Measurements of Coal Mines

Bolt tension must be adjusted so that tension is not too high or too low for anchored roof bolts. Therefore, tension must be measured, and mine operators must take corrective action if the tension on roof bolts is not optimal.

Under 30 CFR 75.204(f)(5), in working places from which coal is produced during any portion of a 24-hour period, the actual torque or tension on at least one out of every 10 previously installed mechanically anchored tensioned roof bolts must be measured from the outby corner of the last open crosscut to the face in each advancing section. The mine operator must take corrective action if the majority of the bolts measured either:

(a) Do not maintain at least 70 percent of the minimum torque or tension specified in the roof control plan, 50 percent if the roof bolt plates bear against wood; or

(b) Have exceeded the maximum specified torque or tension by 50 percent.

Under 30 CFR 75.204(f)(6), mine operators of a coal mine or a person designated by the operator must certify by signature and date that the measurements required by 30 CFR 75.204(f)(5) have been made. This certification must be maintained for at least one year and must be made available to an authorized representative of the Secretary and representatives of miners.

II. Desired Focus of Comments

MSHA is soliciting comments concerning the proposed information collection related to Safety Standards for Roof Bolts in Metal and Nonmetal Mines and Underground Coal Mines. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 201 12th Street South, 4th Floor West, Arlington, VA 22202-5452. Sign in at the receptionist's desk on the 4th Floor via the West elevator. Before visiting MSHA in person, call 202-693-9455 to make an appointment. Questions about the information collection requirements may be directed to the person listed in the FOR FURTHER INFORMATION section of this notice.

III. Current Actions

This information collection request concerns provisions for Safety Standards for Roof Bolts in Metal and Nonmetal Mines and Underground Coal Mines. MSHA has updated the data with respect to the number of respondents, responses, time burden, and burden costs supporting this information collection request from the previous information collection request.

Type of Review: Extension, without change, of a currently approved collection.

Agency: Mine Safety and Health Administration.

OMB Number: 1219-0121.

Affected Public: Business or other for-profit.

Number of Annual Respondents: 484.

Frequency: On occasion.

Number of Annual Responses: 79,167.

Annual Time Burden: 740 hours.

Annual Other Burden Costs: $0.

Comments submitted in response to this notice will be summarized and included in the request for Office of Management and Budget approval of the proposed information collection request; they will become a matter of public record and be available at https://www.reginfo.gov.

Song-ae Aromie Noe,
Certifying Officer, Mine Safety and Health Administration.

[FR Doc. 2024-24500 Filed 10-22-24; 8:45 am]

BILLING CODE 4510-43-P